DEPARTMENT OF TRANSPORTATION

Federal Aviation Administration

14 CFR Part 71

[Docket No. FAA-2005-23275; Airspace Docket No. 05-AAL-40]

Establishment of Class E Airspace; Cold Bay, AK

AGENCY: Federal Aviation Administration (FAA), DOT.

ACTION: Final rule.

SUMMARY: This action revises Class E airspace at Cold Bay, AK to provide adequate controlled airspace to contain aircraft executing two new Standard Instrument Approach Procedures (SIAPs), and seven revised SIAPs. This rule results in revised Class E airspace extending upward from 700 feet (ft.) and 1,200 ft. above the surface at Cold Bay, AK.

DATES: Effective Date: 0901 UTC, June 8, 2006.

FOR FURTHER INFORMATION CONTACT: Gary Rolf, AAL-538G, Federal Aviation Administration, 222 West 7th Avenue, Box 14, Anchorage, AK 99513-7587; telephone number (907) 271-5898; fax: (907) 271-2850; email: gary.ctr.rolf@faa.gov. Internet address: http://www.alaska.faa.gov/at.

SUPPLEMENTARY INFORMATION:

History

On Thursday, January 26, 2006, the FAA proposed to amend part 71 of the Federal Aviation Regulations (14 CFR part 71) to revise Class E airspace extending upward from 700 ft. and 1,200 ft. above the surface at Cold Bay, AK (71 FR 4317). The action was proposed in order to create Class E airspace sufficient in size to contain aircraft while executing two new SIAPs, and seven revised SIAPs for the Cold Bay Airport. The new approaches are (1) Area Navigation (Global Positioning System) (RNAV (GPS)) Runway (RWY) 14, original; (2) RNAV (GPS) RWY 32, original. The seven revised SIAPs are (1) RNAV (GPS) RWY 26, Amendment (Amdt) 1; (2) Instrument Landing System (ILS) or Localizer (LOC)-Distance Measuring Equipment (DME) RWY 14, Amdt 17; (3) LOC-DME-Back Course (BC) RWY 32, Amdt 8; (4) Very High Frequency Omni-directional Range (VOR)-DME or Tactical Air Navigation (TACAN)-A, Amdt 3; (5) VOR RWY 14, Amdt 14; (6) High (HI)-ILS or LOC-DME RWY 14, Amdt 2; (7) HI-VOR-DME or TACAN RWY 14, Amdt 3. Class E controlled airspace extending upward from 700 ft. and 1,200 ft above the surface in the Cold Bay Airport area is created by this action. Interested parties were invited to participate in this rulemaking proceeding by submitting written comments on the proposal to the FAA. No public comments have been received; thus the rule is adopted as proposed.

The area will be depicted on aeronautical charts for pilot reference. The coordinates for this airspace docket are based on North American Datum 83. The Class E airspace areas designated as 700/1,200 ft. transition areas are published in paragraph 6005 of FAA Order 7400.9N, Airspace Designations and Reporting Points, dated September 1, 2005, and effective September 15, 2005, which is incorporated by reference in 14 CFR 71.1. The Class E airspace designation listed in this document will be published subsequently in the Order.

The Rule

This amendment to 14 CFR part 71 modifies Class E airspace at Cold Bay, Alaska. This Class E airspace will accommodate aircraft executing two new SIAPs, and seven revised SIAPs, and will be depicted on aeronautical charts for pilot reference. The intended effect of this rule is to provide adequate controlled airspace for Instrument Flight Rule (IFR) operations at Cold Bay Airport, Cold Bay, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Cold Bay Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 15, 2005, is amended as follows:

* * * * *

Paragraph 6002 Class E airspace designated as surface areas.

* * * * *

AAL AK E2 Cold Bay, AK [Revised]

Cold Bay Airport, AK

(Lat. 55°12′19″ N., long. 162°43′28″ W.)

Within a 4.6-mile radius of the airport and within 1.7 miles each side of the 150° bearing extending from the 4.6-mile radius to 7.7 miles southeast of the airport and within 3 miles west and 4 miles east of the 335° bearing extending from the 4.6-mile radius to 12.2 miles northwest of the airport.

Paragraph 6005 Class E airspace extending upward from 700 feet or more above the surface of the earth.

* * * * *

AAL AK E5 Cold Bay, AK [Revised]

Cold Bay Airport, AK

(Lat. 55°12′19″ N., long. 162°43′28″ W.)

That airspace extending upward from 1,200 feet above the surface within a 10.6-mile radius of the airport and within 9 miles east and 4.3 miles west of the 321° bearing from the airport extending from the 10.6-mile radius to 20 miles northwest of the airport and 4 miles each side of the 070° bearing from the airport extending from the 10.6-mile radius to 13.6 miles northeast of the airport.

* * * * *

Issued in Anchorage, AK, on March 28, 2006.
Michael A. Tarr,
Manager, Operations Support.

[FR Doc. 06-3248 Filed 4-4-06; 8:45 am]

BILLING CODE 4910-13-P